DEPARTMENT OF HOUSING AND URBAN DEVELOPMENT

[Docket No. FR-4560-C-07]

FY 2000 Super Notice of Funding Availability (SuperNOFA) for HUD's Housing, Community Development and Empowerment Programs and Section 8 Housing Voucher Assistance; Notice of Administrative Error in Processing of FY 1999 Mainstream Program NOFA and Correction of Error Through Processing of FY 2000 Mainstream Program NOFA

AGENCY: Office of the Assistant Secretary for Public and Indian Housing, HUD.

ACTION: Super Notice of Funding Availability (SuperNOFA) for HUD grant programs; correction of administrative error in processing of FY 1999 Mainstream Program NOFA through Processing of FY 2000 Mainstream Program NOFA.

SUMMARY: On February 24, 2000, HUD published its Fiscal Year (FY) 2000 Super Notice of Funding Availability (SuperNOFA) for HUD's Housing, Community Development, and Empowerment Programs and Section 8 Housing Voucher Assistance. This document provides notification to the public that as a result of an administrative error in the processing of the FY 1999 NOFA for Mainstream Housing Opportunities for Persons with Disabilities (Mainstream Program), five public housing agencies (PHAs) were inadvertently omitted from the FY 1999 Mainstream Program NOFA, and these five PHAs will be automatically entered into the FY 2000 Mainstream Program NOFA without further application submission.

DATES: This notice does not revise or extend the application due date for the FY 2000 Mainstream NOFA as provided in the FY 2000 SuperNOFA, or revise any other aspect of that NOFA. The application due date for the FY 2000 Mainstream NOFA remains July 18, 2000.

FOR FURTHER INFORMATION CONTACT: You may contact George C. Hendrickson, Housing Program Specialist, Room 4216, Office of Public and Assisted Housing Delivery, Department of Housing and Urban Development, 451 Seventh Street SW, Washington, DC 20410; telephone (202) 708-1872, ext. 4064, or you may contact the Grants management Center at (202) 358-0338. (These are not toll-free numbers.) Persons with hearing or speech impairments may access these numbers via TTY (text telephone) by calling the Federal Information Relay Service at 1-800-877-8339 (this is a toll-free number).

SUPPLEMENTARY INFORMATION: On February 24, 2000 (65 FR 9322), HUD published its Fiscal Year (FY) 2000 Super Notice of Funding Availability (SuperNOFA) for HUD's Housing, Community Development, and Empowerment Programs and Section 8 Housing Voucher Assistance. The FY 2000 SuperNOFA announced the availability of approximately $2,424 billion in HUD program funds covering 39 grant categories within programs operated and administered by HUD offices and Section 8 housing voucher assistance. The SuperNOFA included an announcement of funding availability under the Mainstream Housing Opportunities for persons with Disabilities Program (Mainstream Program) (see 65 FR at 9963).

This document provides notification to the public that as a result of an administrative error in the processing of the FY 1999 NOFA for the Mainstream Program (64 FR 11302) (which was published separately; the FY 1999 NOFA was not part of the FY 1999 SuperNOFA), five public housing agencies (PHAs) were inadvertently omitted from the FY 1999 Mainstream NOFA lottery.

The five PHAs are the following: The Housing Authority of Rockville, Maryland; the Housing Authority of Prince Georges County, Largo, Maryland; the Virginia Housing Authority Development Agency, Richmond, VA; the Fairfax County Regional Housing Authority, Fairfax, Virginia; and the District of Columbia Housing Authority, Washington, DC. These five PHAs will be automatically entered into the FY 2000 Mainstream NOFA lottery without further application submission.

Dated: June 9, 2000.
Harold Lucas,
Assistant Secretary for Public and Indian Housing.

[FR Doc. 00-15341 Filed 6-16-00; 8:45 am]

BILLING CODE 4210-33-P